DEPARTMENT OF TRANSPORTATION

Office of the Secretary

49 CFR Part 71

[OST Docket No. 2006-26442]

RIN 2105-AD65

Standard Time Zone Boundary in Pulaski County, IN

AGENCY: Office of the Secretary (OST), the Department of Transportation (DOT).

ACTION: Notice of Proposed Rulemaking.

SUMMARY: DOT proposes to relocate the time zone boundary in Indiana to move Pulaski County from the Central Time Zone to the Eastern Time Zone. This action is taken at the request of the County Commissioners and the County Council. DOT requests comment on whether this change would serve the convenience of commerce, the statutory standard for a time zone change. Persons supporting or opposing the change should not assume that the change will be made merely because DOT is making the proposal. Our decision in the final rule will be made based on all of the information developed during the entire rulemaking proceeding.

DATES: Comments should be received by December 28, 2006 to be assured of consideration. Comments received after that date will be considered to the extent practicable. If the time zone boundary is changed as a result of this rulemaking, the effective date would be no earlier than 2 a.m. EDT Sunday, March 11, 2007, which is the changeover date from standard time to daylight saving time.

ADDRESSES: You may submit comments by any of the following methods:

• Web Site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 am and 5 pm, Monday through Friday, except Federal Holidays.

• Federal eRulemaking Portal: Go to http://www.regulations.gov. Follow the online instructions for submitting comments.

Instructions: All submissions must include the agency name and docket number (OST Docket Number 2006-26442) or Regulatory Identification Number (RIN) (2105-AD65) for this rulemaking. Note that all comments received will be posted without change to http://dms.dot.gov including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Judith S. Kaleta, Office of the General Counsel, U.S. Department of Transportation, Room 10424, 400 Seventh Street, SW., Washington, DC 20590, indianatime@dot.gov; (202) 366-9283.

SUPPLEMENTARY INFORMATION:

Current Indiana Time Observance

Indiana is divided into 92 counties. Under Federal law, 74 Indiana counties are in the Eastern Time Zone and 18 are in the Central Time Zone. The Central Time Zone counties include seven in the northwest (Lake, Porter, La Porte, Starke, Newton, Jasper, and Pulaski) and eleven in the southwest (Knox, Daviess, Martin, Gibson, Pike, Dubois, Posey, Vanderburgh, Warrick, Spencer, and Perry). The remaining 74 counties are in the Eastern Time Zone. Neighboring States observe both Eastern and Central time. Illinois and western Kentucky observe Central time, while eastern Kentucky, Ohio, and the portion of Michigan adjoining Indiana observe Eastern time.

Federal law provides that it is up to an individual State to decide whether or not to observe daylight saving time. In 2005, the Indiana General Assembly adopted legislation (Pub. L. 243-005 or “the Indiana Act”) providing that the entire State of Indiana will observe daylight saving time beginning in 2006. In addition, the Indiana Act addressed the issue of changing the location of the boundary between the Eastern and Central Time Zones.

In January 2006, DOT completed a rulemaking proceeding establishing new time zone boundaries that resulted in the current time zone observance. Since that time, Pulaski County has filed a Petition requesting a time zone change back to the Eastern Time Zone, and subsequently filed an Amended Petition. Knox, Daviess, Martin, Pike, and Dubois Counties in Southwestern Indiana (the Southwestern Counties) filed a Joint Petition for a Time Zone Change (Joint Petition). This Notice of Proposed Rulemaking addresses only Pulaski County. DOT is waiting for additional information from the Southwestern Counties before making a determination whether to propose a time zone change or deny the Joint Petition.

Statutory Requirements

Under the Standard Time Act of 1918, as amended by the Uniform Time Act of 1966 (15 U.S.C. 260-64), the Secretary of Transportation has authority to issue regulations modifying the boundaries between time zones in the United States in order to move an area from one time zone to another. The standard in the statute for such decisions is “regard for the convenience of commerce and the existing junction points and division points of common carriers engaged in interstate or foreign commerce.”

DOT Procedures To Change a Time Zone Boundary

DOT has typically used a set of procedures to address time zone issues. Under these procedures, DOT will generally begin a rulemaking proceeding to change a time zone boundary if the highest elected officials in the area provide adequate supporting data for the proposed change. We ask that the petition include, or be accompanied by, detailed information supporting the requesting party's contention that the requested change would serve the convenience of commerce. The principal standard for deciding whether to change a time zone is defined very broadly to include consideration of all the impacts upon a community of a change in its standard of time. We also ask that the supporting documentation address, at a minimum, each of the following questions in as much detail as possible.

1. From where do businesses in the community get their supplies, and to where do they ship their goods or products?

2. From where does the community receive television and radio broadcasts?

3. Where are the newspapers published that serve the community?

4. From where does the community get its bus and passenger rail services; if there is no scheduled bus or passenger rail service in the community, to where must residents go to obtain these services?

5. Where is the nearest airport; if it is a local service airport, to what major airport does it carry passengers?

6. What percentage of residents of the community work outside the community; where do these residents work?

7. What are the major elements of the community's economy; is the community's economy improving or declining; what Federal, State, or local plans, if any, are there for economic development in the community?

8. If residents leave the community for schooling, recreation, health care, or religious worship, what standard of time is observed in the places where they go for these purposes?

In addition, we consider any other information that the county or local officials believe to be relevant to the proceeding. We consider the effect on economic, cultural, social, and civic activities, and how a change in time zone would affect businesses, communication, transportation, and education.

2005-2006 Time Zone Rulemaking Proceedings

On August 17, 2005, DOT published a notice in the Federal Register inviting county and local officials in Indiana that wished to change their current time zone in response to the Indiana Act to notify DOT of their request for a change by September 16, 2005 and to provide data in response to the questions above. In addition, DOT announced the opening of an Internet-accessible, public docket to receive any petitions and other relevant documents concerning the appropriate placement of the time zone boundary in the State of Indiana.

DOT received nineteen petitions from counties asking to be changed from the Eastern Time Zone to the Central Time Zone, and one county subsequently withdrew its request. Pulaski County was one of the counties that petitioned for a change.

Pulaski County is located in Northwestern Indiana, 95 miles from both Chicago and Indianapolis and 60 miles from both South Bend and Lafayette. It has a population of 13,783. According to “Key Economic Development Statistics,” prepared for the Pulaski County Community Development Commission, dated January 6, 2004, “Although the agricultural heritage of Pulaski County is very strong, the fact remains that 83% of all employment is created in non-agricultural opportunities.”

The Pulaski County Commissioners submitted a petition (original petition) in which they enumerated reasons for a move to the Central Time Zone based on comments made during an open public meeting. County Commissioners commented that at that open public meeting, “There were no citizens who were in favor of Eastern. All were in favor of leaving the time alone, by not having to change time during the year. But, if we have to choose one of the two, the choice would be Central Time.” The Pulaski County Commissioners also noted the consideration of school children waiting during a late sunrise, the importance of sunlight to its farming community, television programming from South Bend and Chicago, newspapers from Indianapolis, South Bend, Logansport, and Chicago, and airports in Indianapolis and Chicago. In addition, the County Commissioners submitted annual commuting data in support of their position.

At a public hearing conducted by DOT in Logansport, Indiana, Director Dan Dolezal of the Pulaski Community Development Commission presented information from the two major employers in the County who favored the Central Time Zone as well as from other employers. The President of the Pulaski County Council also spoke in favor the Pulaski County petition; he noted the difficulty of being a border county and suggested that the entire state be in the same time zone. In written comments to the docket, one commenter noted that Pulaski County has regional ties to counties that are currently in the Central Time Zone or would be moved to the Central Time Zone by DOT's decision. He referred to workforce planning, economic growth, and economic development regions and said that moving Pulaski to the Central Time Zone would ensure that all counties in these regions were in the same time zone.

Out of 71 comments submitted to the docket from Pulaski County, 41 favored the Central Time Zone, 17 favored the Eastern Time Zone, and 13 expressed interest in keeping Indiana on the same time zone, expressing no preference.

Based on this record, Pulaski County was one of the eight Counties that moved from the Eastern Time Zone to the Central Time Zone under DOT's January 2006 final rule. DOT expected that each of these Counties would begin observing Central Time in accordance with DOT's final rule and the change they requested. However, on February 7, 2006, Pulaski County petitioned DOT for a time zone boundary change back to the Eastern Time Zone. The new petition followed DOT's final rule by only a few weeks and was submitted before the County had any experience with the new time zone changes that it solicited. Furthermore, the new petition requested a change that was contrary to the County's original petition and other information submitted to the docket in the rulemaking proceeding. In fact, the County Commissioners represented that they did not provide accurate information in their original petition. The new petition did not provide detailed information in support of its position or the sources for the information submitted. Therefore, before making any determination on changing the time zone boundary for Pulaski County, DOT requested information from Pulaski County to assist DOT in making a careful assessment on the appropriate time zone for the County consistent with Federal requirements.

On June 27, 2006, Pulaski County submitted an Amended Petition that includes answers to the questions DOT considers in making time zone determinations and exhibits in support of the answers. The Amended Petition repeatedly states that the information set forth in the original petition in response to DOT's time zone questions “is limited, and opinion without substantial and verifiable evidence to support the claims made.” The Amended Petition provides significantly more detailed responses to DOT's questions related to community imports and exports, television and radio broadcasts, newspapers, bus and passenger rail services, airports/airline services, worker commuting patterns, the community's economy/economic development, and schooling, recreation, health care, or religious worship.

In August, Governor Daniels, the Indiana Economic Development Corporation, and the Indiana Department of Workforce Development submitted letters to the docket. The Governor wrote in support of the Amended Petition (as well as the Joint Petition filed by the Southwestern Counties), stating that putting more of the State on the same time zone will provide clarity on the time questions and advance economic growth. The two organizations addressed regional connections. They noted that they established their respective state regions based on their ability to deliver services. They did not establish regions based on time zones or “stream of commerce.”

DOT Determination

Based on the Amended Petition and the supporting data submitted with it, we find that Pulaski County has provided enough information to justify proposing to change its time zone boundary from the Central Time Zone to the Eastern Time Zone. We are now providing a further opportunity to others to submit information that might refute or support the basis provided to date, in order to enable DOT to make a final decision. Pulaski County addressed all of the factors that we consider in these proceedings and made a reasonable case that changing back to the Eastern Time Zone would serve “the convenience of commerce.”

Community Imports and Exports

The Amended Petition provides extensive information regarding the sources of supplies and raw materials for major businesses and industries as well as the distribution points for their products and services. Of the County's eight largest employers, five had 100% of their customers in the Eastern Time Zone while the remaining three had between 50 and 100% in the Central Time Zone. On the other hand, six of these same employers had between 66 and 100% of their suppliers in the Eastern Time Zone. Of the remaining two employers, one had 100% of its suppliers in the Central Time Zone and the other 66%. CSX Railroad, serving Pulaski County, ships 100% of its carloads to states in the Eastern Time Zone, whereas 74% of its incoming carloads are received from states in the Central Time Zone.

With regard to agricultural products, the Amended Petition states that the County ranks 15th in the state in corn production and 25th in soybean production. The inputs for these crops come from Eastern Time Zone areas and 85% of the marketing of these crops occurs in Indiana communities in the Eastern Time Zone. Likewise, according to the Amended Petition, the markets for livestock, poultry and dairy products are all primarily in the Eastern Time Zone. Ninety percent of the agricultural fertilizer and chemical dealers marketing to the County have facilities in the Eastern Time Zone.

The Amended Petition says that the County has two financial institutions, both of which have branches in the Eastern and Central Time Zones. Data distribution from the County's banks is to South Bend, Indianapolis and Warsaw, Indiana, all of which are in the Eastern Time Zone. The County has one branch office of a national investment firm which is headquartered in St. Louis (Central Time Zone).

Based upon the information submitted with the Amended Petition, it appears that the vast majority of the County's businesses and industries have their suppliers, customers and marketing connections with areas that are in the Eastern Time Zone and that moving the time zone boundary for Pulaski County to the Eastern Time Zone would serve the convenience of commerce. DOT solicits further information that would aid in determining whether a change in the time zone for Pulaski County would serve the convenience of commerce.

Television and Radio Broadcasts

The Amended Petition provides detailed information regarding television and radio broadcasting to cities in Pulaski County. It says that Pulaski County is in the South Bend/Elkhart Designated Market Area (DMA) which consists of 10 counties, eight in the Eastern Time Zone and two, Pulaski and Starke, in the Central Time Zone. The Amended Petition maintains that having a part of the DMA in a different time zone makes it more difficult to timely report local news and that most of the news broadcasters covering local news are centered in the Eastern Time Zone.

The Amended Petition claims that the only cable TV service is provided in Winamac and that service has 15 “locally generated” channels, four from Chicago in the Central Time Zone and eleven from South Bend, Lafayette and Indianapolis, in the Eastern Time Zone. The Direct TV service is also varied: Francesville and Medaryville seem to receive network news from Chicago, while Winamac and Star City are focused on Indianapolis, and Monterey has its network news from South Bend. DISH Network has its local channels from South Bend. Other residents use TV antennas.

With regard to radio broadcasting, the Amended Petition provides a list of all Indiana radio stations, but does not indicate the strength of the radio signals in Pulaski County.

Based on the Amended Petition, DOT is unable to determine whether this aspect of the “convenience of commerce” standard supports a change in Pulaski County's time zone. DOT seeks comment on the information submitted and requests any additional information on television and radio broadcasting in Pulaski County that would aid in determining whether a time zone change for Pulaski County would serve the convenience of commerce.

Newspapers

The Amended Petition includes a chart on newspaper circulation numbers in Pulaski County and discusses the circulation of Pulaski County's two family-owned newspapers. The chart shows Pulaski County subscribers of Eastern and Central Time Zone papers. According to the Amended Petition, there are 1498 Pulaski County subscribers to newspapers that are published in the Eastern Time Zone and 66 Pulaski County subscribers to newspapers that are published in the Central Time Zone. The Pulaski County Journal, one of the two newspapers published in Pulaski County, has a weekly circulation of 1064 Pulaski County subscribers, with 112 additional subscribers living in the Eastern Time Zone and 25 from the Central Time Zone. The Amended Petition claims that The Francesville Tribune, the other newspaper published in Pulaski County, has 752 subscribers in the Eastern Time Zone and 48 subscribers in the Central Time Zone, and does not indicate how many subscribers are from Pulaski County.

Based on the information submitted in the Amended Petition with regard to newspapers that serve the community, it appears that moving the time zone boundary for Pulaski County to the Eastern Time Zone would serve the convenience of commerce. DOT seeks comment on the information submitted and requests any additional information on newspaper circulation in Pulaski County that would aid in determining whether changing the time zone for Pulaski County would serve the convenience of commerce.

Bus and Passenger Rail Services

With regard to bus service, the Amended Petition identifies three bus stations within 60 miles of Pulaski County. It claims the nearest bus station for a north/south trip is in Lafayette, Indiana, in the Eastern Time Zone. The Amended Petition also contends the two nearest bus stations for east/west trips are located in Michigan City, in the Central Time Zone, and South Bend in the Eastern Time Zone.

With regard to passenger rail service, the Amended Petition claims the nearest rail station for a north/south trip is in Rensselaer, Indiana, in the Central Time Zone. The Amended Petition also contends the nearest rail station for east/west trips is located in South Bend in the Eastern Time Zone.

The Amended Petition admits, “The use of rail or bus services by Pulaski County residents is unknown.” Nevertheless, it asserts, “Given that two (2) of the nearest bus stations and one (1) of the rail stations are located in Eastern Time, it makes sense to place Pulaski County on Eastern Time so that residents will be on the same time zone as most of the existing junction points and division points of common carriers.”

Based on the information submitted in the Amended Petition with regard to the use of rail or bus services by Pulaski County residents, DOT is unable to determine whether this aspect of the “convenience of commerce” standard supports a change in Pulaski County's time zone. DOT seeks comment on the information submitted and requests any additional information on bus and rail services in Pulaski County that would aid in determining whether a time zone change for Pulaski County would serve the convenience of commerce.

Airports/Airline Services

The Amended Petition identifies three airports that could potentially serve Pulaski County residents: Indianapolis International Airport, 99 miles from the County; Chicago O'Hare, 124 miles from the County; and South Bend Regional Airport, 68 miles from the County. The Amended Petition admits that “no reliable information is available to demonstrate the number of Pulaski County residents who are airline passengers to and from Chicago and Indianapolis,” and refers to the County's largest employer who asserts, “Indianapolis by far is the airport most frequently used by staff and customers on company business.” In addition, the Amended Petition quotes the Vice President for Travel Agency Services at AAA Hoosier Motor Club in Indianapolis who contends, “Leisure travelers will use the airport where they get the best ticket price.” The Amended Petition then claims “it is highly likely that the passenger fees and other airport taxes are higher at Chicago O'Hare than Indianapolis International or South Bend,” but provides no supporting evidence. The Amended Petition notes that FedEx operates its East Service Hub Center from Indianapolis International Airport and that UPS all-points international air hub is located in Louisville, Kentucky, both in the Eastern Time Zone. Exhibit E includes a page from the UPS Web site that states other regional hubs are located in strategic cities across the United States.

Based on the information submitted in the Amended Petition with regard to airports and airline services that serve the community, DOT is unable to determine whether this aspect of the “convenience of commerce” standard supports a change in Pulaski County's time zone. DOT seeks comment on the information submitted and requests any additional information on airport and airline services in Pulaski County that would aid in determining whether changing the time zone for Pulaski County would serve the convenience of commerce.

Worker Commuting Patterns

The Amended Petition notes that, according to STATS Indiana Annual Commuting Trends Profile, 2004, 77% of Pulaski County residents who work do so in the County and 13% of the total numbers of persons who work in Pulaski County come from other counties. More come from the Eastern Time Zone than the Central Time Zone. Local employers reported that more out-of-county workers came from counties in the Eastern Time Zone than counties in the Central Time Zone. Pulaski Memorial Hospital reported the same. The Amended Petition sums up workers migration by stating, “Of those migrating in to work, the majority come from the Eastern Time Zone. Of those going out of the County to work, a lesser number go to the Central Time Zone than the Eastern Time Zone.” The Amended Petition asserts, “Given that migration patterns to Eastern Time exceed migration patterns to Central Time, there is a greater pool of potential workers in the East that may be discouraged from commuting to Pulaski County due to time zone difference.”

Based upon the information submitted with the Amended Petition with regard to worker migration, it appears that moving the time zone boundary for Pulaski County to the Eastern Time Zone would serve the convenience of commerce. DOT solicits further information and data supporting or rebutting the information supplied by the Amended Petition and how it supports a change in the time zone for the convenience of commerce.

The Community's Economy/Economic Development

The Amended Petition states, “Outside of its borders Pulaski County is not a “hub” for the regional economy. It is a peripheral player.” In support of this assertion, the Amended Petition refers to the study undertaken by the Pulaski County Community Development Commission on “Key Economic Development Statistics” which states that the employment in the County “is highly concentrated in agriculture, manufacturing, and government.” The Amended Petition notes that immediately after the release of this study, the Commission commissioned a “strategic plan for economic development.” The plan addresses “job creation and retention, planning and zoning, housing opportunities, educational needs, and recreational activities and visitor accommodations.” According to the Amended Petition, each challenge is being addressed and positive progress is being made to resolve the challenges. This section of the Amended Petition also referred to the sections addressing worker migration patterns that favor the Eastern Time Zone and stated that regions established by the State “for the administrative ease of delivering governmental services* * *should not be relied on as decisive evidence of what time zone best serves the commercial convenience of Pulaski County.”

Based upon the information submitted with the Amended Petition, it appears that moving the time zone boundary for Pulaski County to the Eastern Time Zone would serve the convenience of commerce. DOT solicits further information and data supporting or rebutting the information supplied by the Amended Petition and how it supports a change in the time zone for the convenience of commerce.

Schooling, Recreation, Health Care, or Religious Worship

The Amended Petition notes that there are four school districts that cover Pulaski County. According to the Amended Petition, the Eastern Pulaski Community School Corporation serves Pulaski County and part of Fulton County, Union Township (Eastern Time Zone); the West Central School Corporation serves Pulaski County and Jasper County (Central Time Zone); the Culver Community School Corporation, based in Marshall County, covers Pulaski County, Starke County (Central Time Zone), and Fulton and Marshall Counties (Eastern Time Zone); and the North Judson-San Pierre School Corporation includes Pulaski County and Starke County (Central Time Zone). The Amended Petition provides detailed information on the number of students in each school district and the County of residence for the faculty. In addition, it includes detailed information on the athletic programs and events scheduled in Eastern and Central Time Zone Counties. The four school districts had requested to have the time zone issue resolved before school began last August.

With regard to higher education, the Amended Petition asserts, “Businesses encouraging employees to return for further instruction in order to strengthen the company with high-skill workers or high school graduates unable to afford campus life will be limited if Pulaski County remains on the Central Time Zone.” The Amended Petition notes that six of the eight colleges and universities within 50 miles are located in the Eastern Time Zone.

With regard to recreation, the Amended Petition notes, “Indiana is unique in its observance of college and high school basketball as a main source of family entertainment.” The Amended Petition refers back to the concerns it raised with regard to high school sporting activities. Furthermore, five out of the six colleges noted for collegiate sports within 100 miles of Pulaski County and referenced in the Amended Petition are in the Eastern Time Zone. The Amended Petition notes that with regard to professional football and basketball, there is an equal split between the Eastern and Central Time Zones.

With regard to health care, the Amended Petition provides substantial information on the activities of Pulaski Memorial Hospital, which the Amended Petition identifies as “the primary health care provider in Pulaski County” and its second largest employer. The Amended Petition asserts, “Pulaski Memorial Hospital activities, with one (1) exception point to the Eastern Time Zone.” The number of referrals of in-patients discharged to another hospital in the Eastern Time zone was 147 as compared to 101 to the Central Time Zone. Out-patient referrals for procedures done in out-of-county facilities, however, favored the Central Time Zone 287 to 242 for the Eastern Time Zone. There are more independent practitioners and specialty group physicians from the Eastern Time Zone. With regard to in-home health care services, the number of visits overwhelmingly favors the Eastern Time Zone 9538 to 1366.

The Amended Petition does not address religious worship.

Based on the information submitted in the Amended Petition with regard to higher education and recreation and possibly health care, it appears that moving the time zone boundary for Pulaski County to the Eastern Time Zone would serve the convenience of commerce. It is unclear, however, whether a time zone boundary change would serve primary and secondary education. The Amended Petition was submitted prior to the school year and does not include any actual experience with regard to Pulaski County's change to the Central Time Zone and its effect on school districts that cover Pulaski County. DOT seeks comment on the information submitted and requests any additional information on schooling as it relates to the school districts that cover Pulaski County that would aid in determining whether changing the time zone for Pulaski County would serve the convenience of commerce. DOT specifically requests comments from the Fulton, Marshall, Starke, and Jasper Counties that are in the same school districts as Pulaski County. DOT also requests comments on any other recreational activities that would be relevant to this proceeding, on whether the home visits by county of residence noted on page 24 of the Amended Petition were based on a per person or per visit basis, and on a time zone change and its effect on religious worship, if any.

Regional Connections

In the original rulemaking proceeding to change time zone boundaries from the Eastern Time Zone to the Central Time Zone, petitioning counties and commenters advocated for a move by referring to their ties to other Indiana counties currently in the Central Time Zone. Many referred to data from STATS Indiana, an information service of the Indiana Business Research Center at Indiana University's Kelly School of Business. This data includes the Indiana Annual Commuting Trends Profile, based on Indiana IT 40 returns. Commenters supporting the proposed change to Central Time also referred to data from the Indiana Economic Development Corporation (IEDC), the Indiana Department of Workforce Development, the Indiana Department of Transportation and the Indiana Department of Education, and Designated Media Markets as defined by the Nielsen for use in television ratings.

DOT carefully reviewed this data and utilized it in reaching its decision. As stated in the January 2006 Final Rule, “Pulaski has regional economic and workforce ties and business connections to counties already in the Central Time Zone. Those ties are enhanced by moving the time zone boundary for Pulaski County.”

The Amended Petition does not address regional connections, as a specific, separate issue. It does, however, address regional connectivity as part of its answers to the questions raised by DOT. The Amended Petition refers to regions established by the State of Indiana and notes, “These regions are properly regarded as regions for the administrative ease of delivering governmental services and should not be relied upon as decisive evidence of what time zone best serves the commercial convenience of Pulaski County. Regardless of where Pulaski County is placed in state government regions, Pulaski County is fundamentally different as a rural county and on the periphery from the major cities that comprise the hub of these regions.” It further states, “A rational basis can be asserted for including Pulaski County in a time zone that serves commercial convenience focusing on small rural populations with an agricultural/small manufacturing economy. This informal region would include the counties of Fulton, Pulaski, White, Jasper, and Newton.”

Regional connections are also addressed in letters from the Indiana Economic Development Corporation and the Indiana Department of Workforce Development. They noted that they established their respective regions based on their ability to deliver services. They did not establish regions based on time zones or “stream of commerce.” The data from STATS Indiana concerning employment and earnings by industry refer to the Bureau of Economic Analysis (BEA) as its source. According to BEA's Web site, “BEA produces economic accounts statistics that enable government and business decision-makers, researchers, and the American public to follow and understand the performance of the Nation's economy. To do this, BEA collects source data, conducts research and analysis, develops and implements estimation methodologies, and disseminates statistics to the public. BEA's economic areas define the relevant regional markets surrounding metropolitan or micropolitan statistical areas. They consist of one or more economic nodes—metropolitan or micropolitan statistical areas that serve as regional centers of economic activity—and the surrounding counties that are economically related to the nodes.” (Emphasis added.) Pulaski County is in BEA area 156 with other counties that are in the Eastern Time Zone (Elkhart, Fulton, Kosciusko, Lagrange, Marshall, St. Joseph Counties in Indiana and Berrien, Cass, and St. Joseph Counties in Michigan), with the exception of Starke County. Starke County, like Pulaski County, petitioned to have its time zone boundary changed to the Central Time Zone and DOT granted that petition and changed the time zone in January 2006.

Based on the information submitted in the Amended Petition with regard to regional connections, it appears that moving the time zone boundary for Pulaski County to the Eastern Time Zone would serve the convenience of commerce. DOT seeks comment on the information submitted and requests any additional information concerning regional connections that would aid in determining whether changing the time zone for Pulaski County would serve the convenience of commerce.

Request for Comments

To aid us in our consideration of whether a time zone change would be “for the convenience of commerce,” we ask for comments on the impact on commerce of a change in the time zone and whether a new time zone would improve the convenience of commerce. The comments should address the impact on such things as economic, cultural, social, and civic activities and how time zone changes affect businesses, communication, transportation, and education. The comments should be as detailed as possible, providing the basis of the information including factual data or surveys. For example, with regard to major bus, rail, and air transportation, information such as the average time it takes for a county resident to travel to a transportation terminal or the average distance to the terminal for a county resident would be useful. With regard to the impact of the time zone on education, if a school district crosses county lines, the number of students in each county in that district would be helpful. Information on school activities such as sporting events or academic competitions that take place in other counties or locations that are not on the same time zone as the school district would also be useful. Similar information on community colleges could also be beneficial. Finally, we would appreciate information on how the different time zones affect the students and the schools.

We specifically invite comment from neighboring Indiana counties and counties in other States that may also be impacted by changing Pulaski County's time zone boundary.

Although Pulaski County has submitted sufficient information to begin the rulemaking process, the decision whether actually to make the change will also consider information submitted in writing to the docket. Persons supporting or opposing the change should not assume that the change will be made merely because DOT is making the proposal. DOT here issues no opinion on the ultimate merits of the County's request. We note that Pulaski County and its residents have had only a short time to experience the effects of changing from Eastern to Central Time and now the County proposes to change back again. This may result in many comments to the docket. Our decision in the final rule will be made on the basis of information and comments developed during the entire rulemaking proceeding. In our experience, time zone boundary changes can be extremely disruptive to a community and, therefore, should not be made without careful consideration. At the close of the comment period, we will analyze the comments submitted and decide whether to withdraw the proposal (and deny the petition) or issue a final rule.

Comment Period

We are providing 30 days for public comments in this proceeding. Although we normally provide 60 days for public comments on proposed rules, we believe that 30 days is an adequate public comment period in this instance. It is important to resolve this rulemaking expeditiously so that we can provide ample notice if a change to Pulaski County's time zone boundary is adopted. Since the introduction and passage of the Indiana Act in 2005 and through DOT's time zone regulatory proceeding and compliance discussions with Pulaski County, the time zone boundary issue has been actively discussed and analyzed. In this regard, we expect that 30 days is adequate time to gather the necessary data, which is based on currently available information.

Regulatory Analysis & Notices

This proposed rule is not a “significant regulatory action” under section 3(f) of Executive Order 12866 and does not require an assessment of potential costs and benefits under section 6(a)(3) of that Order. It has not been reviewed by the Office of Management and Budget under that Order. It is not “significant” under the regulatory policies and procedures of the Department of Transportation (44 FR 11040; February 26, l979). We expect the economic impact of this proposed rule to be so minimal that a full Regulatory Evaluation under paragraph 10e of the regulatory policies and procedures of DOT is unnecessary. The rule primarily affects the convenience of individuals in scheduling activities. By itself, it imposes no direct costs. Its impact is localized in nature.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000. This proposal, if adopted, would primarily affect individuals and their scheduling of activities. Although it would affect some small businesses, not-for-profits and, perhaps, a number of small governmental jurisdictions, it would not be a substantial number. In addition, the change should have little, if any, economic impact.

Therefore, I certify under 5 U.S.C. 605(b) that this proposed rule would not, if adopted, have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please call Joanne Petrie at (202) 366-9315.

Collection of Information

This proposed rule would call for no new collection of information under the Paperwork Reduction Act of 1995 (44 U.S.C. 3501-3520).

Federalism

We have analyzed this proposed rule under E.O. 12612 and have determined that this rule does not have sufficient implications for federalism to warrant the preparation of a Federalism Assessment.

Unfunded Mandates

The Unfunded Mandates Reform Act of 1995 (2 U.S.C. 1531-1538) and E.O. 12875, Enhancing the Intergovernmental Partnership, (58 FR 58093; October 28, 1993) govern the issuance of Federal regulations that impose unfunded mandates. An unfunded mandate is a regulation that requires a State, local, or tribal government or the private sector to incur direct costs without the Federal Government's having first provided the funds to pay those costs. This proposed rule would not impose an unfunded mandate.

Taking of Private Property

This proposed rule would not result in a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

We have analyzed this proposed rule under E.O. 13045, Protection of Children from Environmental Health Risks and Safety Risks. This rule is not an economically significant rule and does not concern an environmental risk to health or risk to safety that may disproportionately affect children.

Environment

This rulemaking is not a major Federal action significantly affecting the quality of the human environment under the National Environmental Policy Act and, therefore, an environmental impact statement is not required.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 49 CFR Part 71

Time zones.

For the reasons discussed above, the Office of the Secretary proposes to amend Title 49 Part 71 as follows:

PART 71—STANDARD TIME ZONE BOUNDARIES

1. The authority citation for part 71 continues to read as follows:

Authority: Secs. 1-4, 40 Stat. 450, as amended; sec. 1, 41 Stat. 1446, as amended; secs. 2-7, 80 Stat. 107, as amended; 100 Stat. 764; Act of Mar. 19, 1918, as amended by the Uniform Time Act of 1966 and Pub. L. 97-449, 15 U.S.C. 260-267; Pub. L. 99-359; Pub. L. 106-564, 15 U.S.C. 263, 114 Stat. 2811; 49 CFR 1.59(a).

2. Paragraph (b) of § 71.5 is revised to read as follows:

§ 71.5 Boundary line between eastern and central zones.

* * * * *

(b) Indiana-Illinois. From the junction of the western boundary of the State of Michigan with the northern boundary of the State of Indiana easterly along the northern boundary of the State of Indiana to the east line of LaPorte County; thence southerly along the east line of LaPorte County to the north line of Starke County; thence east along the north line of Starke County to the west line of Mashall County; thence south along the west line of Marshall County thence west along the north line of Pulaski County to the east line of Jasper County; thence south along the east line of Jasper County to the south line of Jasper County; thence west along the south lines of Jasper and Newton Counties to the western boundary of the State of Indiana; thence south along the western boundary of the State of Indiana to the north line of Knox County; thence easterly along the north line of Knox, Daviess, and Martin Counties to the west line of Lawrence County; thence south along the west line of Lawrence, Orange, and Crawford Counties to the north line of Perry County; thence easterly and southerly along the north and east line of Perry County to the Indiana-Kentucky boundary.

Issued in Washington, DC on November 22, 2006.
Rosalind A. Knapp,
Acting General Counsel.

[FR Doc. 06-9432 Filed 11-22-06; 2:27 pm]

BILLING CODE 4910-9X-P